DEPARTMENT OF AGRICULTURE

Forest Service

Proposed Forest Plan Amendment for the Palomar Gasline Transmission Project; Mt. Hood National Forest; OR

AGENCY: Forest Service, USDA.

ACTION: Notice of intent to prepare a forest plan amendment.

SUMMARY: The USDA Forest Service, Mt. Hood National Forest is proposing to prepare a forest plan amendment for the proposed Palomar Gasline Transmission Project (PGT). The Federal Energy Regulatory Commission (FERC) is the lead agency for this proposed natural gas pipeline (Docket No. PFO7-13-000). The FERC is preparing an environmental impact statement (EIS) that will discuss the environmental impacts that could result from the construction and operation of a new underground natural gas pipeline proposed by the Palomar Gas Transmission, LLC. An initial Notice of Intent (NOT) to prepare an ETS for this Project was issued by the FERC on October 29, 2007.

The U.S. Department of Agriculture, Forest Service, is a Cooperating Agency with the FERC in the preparation of the ETS for this project. The initial Notice of Intent issued by the FERC identified the possible need to amend the Mt. Hood National Forest Land and Resource Management Plan (Mt. Hood Forest Plan) if the Palomar Project is approved and constructed. Through the pre-filing process the Forest Service has determined amendments to the Mt. Hood Forest Plan are needed for this project and will include the analysis in the FERC EIS.

DATES: Comments concerning the scope of the analysis for the forest plan amendment must be received by January 5, 2009. The draft environmental impact statement is expected April 2009 and the final environmental impact statement is expected October 2009.

ADDRESSES: Submit written comments to: Mike Redmond, Mt. Hood National Forest, 16400 Champion Way, Sandy, OR 97055. Electronic comments can be submitted to: comments-pacificnorthwestmthood@fs.fed.us.

Comments received in response to this solicitation, including names and addresses of those who comment, will be part of the public record for this proposed action. Comments submitted anonymously will be accepted and considered; however, anonymous comments will not provide the respondent with standing to appeal the subsequent decision.

FOR FURTHER INFORMATION CONTACT: Mike Redmond, Environmental Coordinator, Mt. Hood National Forest, 16400 Champion Way, Sandy, OR 97055 or by e-mailing mredmond@fs.fed.us or by calling (503) 668-1776.

Individuals who use telecommunication devices for the deaf (TDD) may call the Federal Information Relay Service (FIRS) at 1-800-877-8339 between 8 a.m. and 8 p.m., Eastern Time, Monday through Friday.

SUPPLEMENTARY INFORMATION:

Purpose and Need for Action

The staff of the Federal Energy Regulatory Commission (FERC) is preparing an environmental impact statement (EIS) that will discuss the environmental impacts of the Palomar Gas Transmission Project (PGT) that could result from the construction and operation of a new underground natural gas pipeline. An initial Notice of Intent (NOl) for this Project was issued by the FERC on October 29, 2007.

The U.S. Department of Agriculture, Forest Service, is a Cooperating Agency with the FERC in the preparation of the EIS for this project. The initial Notice of Intent issued by the FERC identified the possible need to amend the Mt. Hood National Forest Land and Resource Management Plan (Mt. Hood Forest Plan) if the Palomar Project is approved and constructed. Through the pre-filing process the Forest Service has determined amendments to the Mt. Hood Forest Plan are needed for this project. Section 372 of the 2005 Energy Policy Act directed the Secretary of Energy in consultation with the Secretaries of Agriculture, Interior and Defense to coordinate all applicable Federal authorizations and environmental reviews relating to a proposed or existing utility facility, including an agreement to prepare a single environmental review document to be used as the basis for all Federal authorization decisions. Therefore the Forest Service will be including an analysis of a Forest Plan amendment in the FERC EIS for this project.

The FERC is the lead federal agency in the preparation of the EIS, and is preparing the EIS to satisfy the requirements of the National Environmental Policy Act (NEPA). NEPA requires the FERC to take into account the environmental impacts that could result from an action when it considers whether or not a natural gas pipeline should be approved. FERC will use the ElS to consider the environmental impacts that could result if it issues project authorizations to PGT under Sections 3 and 7 of the Natural Gas Act. The Commission will use the EIS in its decision-making processes to determine whether or not to authorize the Project. The Forest Service will use the EIS to evaluate the proposed amendments to the Mt. Hood Forest Plan and for any forest plan amendment decisions made subsequently if FERC authorizes this project.

Proposed Action

Proposed Amendment to the Mt. Hood Forest Plan

The Forest Service has identified that there are aspects of the proposed pipeline that would not be consistent with the Mt. Hood Forest Plan as amended by the Northwest Forest Plan. Specifically, the proposed project would not be consistent with Standards and Guidelines for; Late-Successional Reserves (LSRs) crossed by the proposed pipeline; for the Clackamas Wild and Scenic River (which prohibit construction of utility lines within any river segment); for Key Site Riparian Areas (where rights-of-way and easements are prohibited); for restricting the use of ground equipment for vegetation clearing on earth flow areas; for cumulative impacts for soil disturbance; and with Standards and Guidelines limiting disturbance in riparian areas. In addition, the Project may not be consistent with visual quality objectives (VQOs) for the following:

• Eligible Wild, Scenic, and Recreational River Corridors Sensitivity Level I trails with a VQO of Retention, Partial Retention, and Modification in the near foreground, far foreground, and middleground, respectively

• Sensitivity Level II trails with a VQO of Partial Retention, Modification, and Modification in the near foreground, far foreground, and middleground, respectively.

• Portions of the Forest with Retention and Partial Retention VQOs.

• Designated Viewsheds (listed on Table Four-23 of the Forest Plan).

The proposed amendment of the Mt. Hood Forest Plan would include land use designation adjustments to add acres to the LSRs in order to offset LSR acres that would be impacted by the project. The amendment would also include modifications to the text of the Standard and Guidelines mentioned above to account for the construction of the pipeline.

Summary of the Proposed Pipeline Being Reviewed by the FERC

PGT has proposed constructing and operating a new natural gas pipeline and associated structures with a bi-directional flow capacity of 1.4 billion cubic feet per day. The project would be located in northwest Oregon and consist of a 211-mile-long, 36-inch diameter pipeline running from near Shaniko, Wasco County, Oregon to the Bradwood sendout pipeline in Clatsop County, Oregon. Approximately 47 miles of the pipeline would be located on the Mt. Hood National Forest (Forest). The pipeline would enter the Forest near MP 42 and follow a westward route across the Forest just north of the Warm Springs Indian Reservation for approximately 13.2 miles. Between MP 48 and MP 49.9 the route would be adjacent to State Highway 216. The proposed route would continue in a southwest direction for approximately 3 miles and then continue west across the Forest until approximately MP 89.2. The proposed route would cross Late Successional Reserves (LSR) between MP 77 and MP 78 and between MP 88 and MP 89, directly affecting approximately 27 acres of LSR. It would also cross through two un-mapped LSRs, directly affecting approximately 5 acres. The proposed route would directly affect approximately 709 acres of National Forest System land, approximately 106 acres of which would be old-growth forest. The proposed route would also cross the Clackamas River, a federally designated Wild and Scenic River.

Additional information on PGT's proposed facilities is contained in the initial Notice of Intent. Also information about the Project is available from the FERC Office of External Affairs at 1-866-208 FERC (3372) or on the FERC Internet Web site (http://www.ferc.gov) using the “eLibrary” link. Click on the eLibrary link, click on “General Search,” and enter the docket number (PFO7-13-000) excluding the last three digits in the Docket. Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as Orders, notices, and rule makings.

Finally, PGT has established a Web site for this project at http://www.palomargas.com/project.html. The Web site includes a project overview, timeline, safety and environmental information, and answers to frequently asked questions. You can also request additional information by e-mailing PGT directly at info@palomargas.com or writing to: Palomar Gas Transmission, 1400 SW Fifth Avenue, Suite 900, Portland, Oregon 97225.

Responsible Official

The Responsible Official for the proposed forest plan amendment is the Forest Supervisor of the Mt. Hood National Forest.

Nature of Decision To Be Made

The nature of the decision to be made is how the forest plan should be amended if the FERC approves the PGT project.

Scoping Process

With this NOI, the Forest Service is requesting public comments on the scope of the analysis concerning proposed amendments to the Mt. Hood Forest Plan that should be addressed in the ETS. Comments must be received by January 5, 2009. All comments received will be considered by the Forest Service in the preparation of a forest plan amendment.

It is important that reviewers provide their comments at such times and in such manner that they are useful to the agency's preparation of the environmental impact statement. Therefore, comments should be provided prior to the close of the comment period and should clearly articulate the reviewer's concerns and contentions. Your comments should focus on the potential changes in the goods and services that the Mt. Hood National Forest produces, reasonable alternatives, and measures to avoid or lessen any adverse changes in the goods and services produced by the Forest. The more specific your comments, the more useful they will be. The submission of timely and specific comments can affect a reviewer's ability to participate in subsequent administrative appeal or judicial review.

Dated November 14, 2008.
Gary L. Larsen,
Forest Supervisor, Mt. Hood National Forest.

[FR Doc. E8-27704 Filed 11-21-08; 8:45 am]

BILLING CODE 3410-11-M